DEPARTMENT OF THE TREASURY

Internal Revenue Service

26 CFR Part 1

[TD 9538]

RIN 1545-BK14

Modifications of Certain Derivative Contracts; Correction

AGENCY: Internal Revenue Service (IRS), Treasury.

ACTION: Correcting amendment.

SUMMARY: This document describes correcting amendments to final and temporary regulations (TD 9538) that address when a transfer or assignment of certain derivative contracts does not result in an exchange to the nonassigning counterparty for purposes.

These regulations were published in the Federal Register on Friday, July 22, 2011.

DATES: This correction is effective on August 19, 2011, and is applicable beginning July 22, 2011.

FOR FURTHER INFORMATION CONTACT: Andrea M. Hoffenson, (202) 622-3920 (not a toll-free number).

SUPPLEMENTARY INFORMATION:

Background

The final and temporary regulations that are the subject of this correction are under section 1001 of the Internal Revenue Code.

Need for Correction

As published July 22, 2011 (76 FR 43892), the final and temporary regulations (TD 9538) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805. * * *

Par. 2. Section 1.1001-4T is amended by revising paragraphs (a)(1), (b)(1) and (b)(3) to read as follows:

§ 1.1001-4T Modifications of certain derivative contracts (temporary).

* * * * *

(a) * * *

(1) Both the party transferring or assigning its rights and obligations under the derivative contract and the party to which the rights and obligations are transferred or assigned are either a dealer or a clearinghouse;

* * * * *

(b) * * *

(1) Dealer. For purposes of this section, a dealer is a taxpayer who meets the definition of a dealer in securities in section 475(c)(1) or is a dealer in commodities derivative contracts.

* * * * *

(3) Derivative contract. For purposes of this section, a derivative contract is a contract described in—

(i) Section 475(c)(2)(D), 475(c)(2)(E), or 475(c)(2)(F) without regard to the last sentence of section 475(c)(2) referencing section 1256;

(ii) Section 475(e)(2)(B), 475(e)(2)(C), or 475(e)(2)(D); or

(iii) Section 1.446-3(c)(1).

* * * * *

LaNita Van Dyke,
Chief, Publications and Regulations Branch, Legal Processing Division, Associate Chief Counsel (Procedure and Administration).

[FR Doc. 2011-21180 Filed 8-18-11; 8:45 am]

BILLING CODE 4830-01-P